DEPARTMENT OF TRANSPORTATION

Federal Aviation Administration

14 CFR Part 71

[Docket No. FAA-2008-0137; Airspace Docket No. 08-AWP-2]

Establishment of Class E Airspace; Death Valley, CA

AGENCY: Federal Aviation Administration (FAA), DOT.

ACTION: Final rule.

SUMMARY: This action will establish Class E airspace at Death Valley, CA. Controlled airspace is necessary to facilitate vectoring of Instrument Flight Rules (IFR) traffic from en route airspace to Las Vegas, NV. The FAA is taking this action to enhance the safety and management of IFR aircraft operations near Las Vegas, NV. This action also makes a minor change to the geographic coordinates of the airspace.

DATES: Effective Date: 0901 UTC, July 2, 2009. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA, 98057; telephone (425) 203-4537.

SUPPLEMENTARY INFORMATION:

History

On September 10, 2008, the FAA published in the Federal Register a notice of proposed rulemaking to establish controlled airspace at Death Valley, CA, (73 FR 52638). Interested parties were invited to participate in this rulemaking effort by submitting written comments on the proposal to the FAA. No comments were received. A minor change to the geographic coordinates of the airspace area was provided by the FAA's Charting Office to better depict the airspace.

Class E airspace designations are published in paragraph 6006 of FAA Order 7400.9S signed October 3, 2008, and effective October 31, 2008, which is incorporated by reference in 14 CFR part 71.1. The Class E airspace designations listed in this document will be published subsequently in that Order.

The Rule

This action amends Title 14 Code of Federal Regulations (14 CFR) part 71 by establishing Class E airspace at Death Valley, CA. Controlled airspace is necessary to accommodate IFR aircraft vectoring from en route airspace to Las Vegas, NV. With the exception of editorial changes, and the changes described above, this rule is the same as that proposed in the NPRM.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Death Valley, CA.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9S, Airspace Designations and Reporting Points, signed October 3, 2008, and effective October 31, 2008 is amended as follows:

Paragraph 6006. En Route Domestic Airspace Areas.

AWP CA E6 Death Valley, CA [New]

Clarr Intersection

(Lat. 35°40′32″ N., long. 115°40′47″ W.)

That area extending upward from 1,200 feet above the surface within an area beginning at lat. 36°51′00″ N., long. 116°33′33″ W.; thence northwest to lat. 36°56′33″ N., long. 117°11′21″ W.; thence southeast to lat. 35°34′30″ N., long. 116°23′30″ W.; thence southeast to lat. 35°17′29″ N., long. 116°10′01″ W.; thence northeast along VOR Federal Airway V-394 to the Clarr Intersection; thence northwest along VOR Federal Airway V-135 to lat. 36°29′00″ N., long. 116°26′33″ W.; thence north to lat. 36°46′00″ N., long. 116°26′33″ W.; thence to the point of origin.

Issued in Seattle, Washington, on March 13, 2009.
Clark Desing,
Manager, Operations Support Group, Western Service Center.

[FR Doc. E9-6999 Filed 3-27-09; 8:45 am]

BILLING CODE 4910-13-P